DEPARTMENT OF TRANSPORTATION

Federal Aviation Administration

[Docket No. FAA-2024-2690]

Agency Information Collection Activities: Requests for Comments; Clearance of a Renewed Approval of Information Collection: Safety Assurance System (SAS) External Portal

AGENCY: Federal Aviation Administration (FAA), DOT.

ACTION: Notice and request for comments.

SUMMARY: In accordance with the Paperwork Reduction Act of 1995, FAA invites public comments about our intention to request the Office of Management and Budget (OMB) approval to renew an information collection. The SAS external portal is a web-based tool developed for applicants and certificate holders (also referred to as external users) to exchange information with Flight Standards (FS) employees, primarily to collaborate and communicate with their FS counterparts regarding initial certification applications, and requesting new programs for acceptance and approval.

DATES: Written comments should be submitted by February 18, 2025.

ADDRESSES: Please send written comments:

By Electronic Docket: www.regulations.gov (Enter docket number into search field.)

By Mail: Derek Lockhart (c/o Denise Beaudoin), 13873 Park Center Rd., Herndon, VA 20171.

By Fax: 703-481-6043.

FOR FURTHER INFORMATION CONTACT: Derek Lockhart by email at Derek.Lockhart@faa.gov or by phone at (571) 249-6740.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0774.

Title: Safety Assurance System (SAS) External Portal.

Form Numbers: List of the following web-based forms:

• Submitting a Preapplication Statement of Intent (PASI) Form (FAA Form 8400-6) (14 CFR parts 121, 135 and 141);

• Submitting an Application for Repair Station (FAA Form 8310-3) (14 CFR part 145);

• Submitting an Application for Aviation Maintenance School Certificate and Ratings Application (FAA Form 8310-6) (14 CFR part 147).

Type of Review: Renewal of an information collection.

Background: The SAS external portal is a web-based tool developed for 14 CFR part 121, 135, 141, 142, 145 and 147 applicants and certificate holders (also referred to as external users) to exchange information with Flight Standards employees, primarily the Certification Project Managers (CPMs), Principal Inspectors (PIs) and Training Center Program Managers (TCPMs). SAS external portal creates the ability for our external users to collaborate and communicate with their FS counterparts in the execution of the following functions:

• Submitting a Preapplication Statement of Intent (PASI) Form (FAA Form 8400-6) (14 CFR parts 121, 135 and 141);

• Submitting an Application for Repair Station (FAA Form 8310-3) (14 CFR part 145);

• Submitting an Application for Aviation Maintenance School Certificate and Ratings Application (FAA Form 8310-6) (14 CFR part 147);

• Submitting a Letter of Intent (14 CFR part 142);

• Submitting Element Design (ED) data collection tools (DCTs); and,

• Sharing of other documentation as needed.

Benefits to the certificate holder or applicant to use the external portal include:

• Ease of submission and expedited processing and tracking of documents/requests;

• Documents/requests are sent directly to the FS employees, which eliminates wait time for the entry of information by the PI/CPM; and,

• Access to DCTs.

Respondents: Applicant respondents—922; Certificate Holder respondents—7892.

Frequency: On occasion.

Estimated Average Burden per Response: Applicant respondents—135 hours; Certificate Holder respondents—90 hours.

Estimated Total Annual Burden: Applicants $7,027,935; Certificate Holders $40,104,456.

Issued in Herndon, VA, on December 10, 2024.
Derek A. Lockhart,
Automation & Policy Team Leader, System Approach for Safety Oversight (SASO) Program Office, AFS-910.

[FR Doc. 2024-29464 Filed 12-19-24; 8:45 am]

BILLING CODE 4910-13-P